DEPARTMENT OF COMMERCE

International Trade Administration

[A-570-893]

Certain Frozen Warmwater Shrimp From People's Republic of China: Rescission of Antidumping Duty Administrative Review; 2017-2018

AGENCY: Enforcement and Compliance, International Trade Administration, Department of Commerce.

SUMMARY: The Department of Commerce (Commerce) is rescinding the administrative review of the antidumping duty (AD) order on certain frozen warmwater shrimp (shrimp) from the People's Republic of China (China) for the period of review (POR) February 1, 2017, through January 31, 2018.

DATES: Applicable July 9, 2018.

FOR FURTHER INFORMATION CONTACT: Trenton Duncan or Kabir Archuletta, AD/CVD Operations, Office V, Enforcement and Compliance, International Trade Administration, U.S. Department of Commerce, 1401 Constitution Avenue NW, Washington, DC 20230; telephone: (202) 482-3539 or (202) 482-2593, respectively.

SUPPLEMENTARY INFORMATION:

Background

On February 1, 2018, Commerce published in the Federal Register a notice of opportunity to request an administrative review of the AD order on shrimp from China for the period February 1, 2017, through January 31, 2018.¹ On February 22, 2018, in accordance with section 751(a) of the Tariff Act of 1930, as amended (the Act), and 19 CFR 351.213(b), the Ad Hoc Shrimp Trade Action Committee (the petitioner) timely requested a review of the AD order with respect to 55 companies.² On February 27, 2018, the American Shrimp Processors Association (Domestic Processors) requested a review of the AD order with respect 93 companies.³ On April 16, 2018, in accordance with section 751(a) of the Act and 19 CFR 351.221(c)(1)(i), Commerce initiated an administrative review of the AD order on shrimp from China with respect to these companies.⁴ On June 4, 2018, the petitioner timely withdrew its request for an administrative review of 55 companies listed in the Initiation Notice.⁵ On June 5, 2018, Domestic Processors partially withdrew their request for an administrative review with respect to Fuqing Dongwei Aquatic Products Ind.⁶ On June 15, 2018, Domestic Processors timely withdrew their request for an administrative review with respect to all of the remaining companies listed in the Initiation Notice.⁷ No other party requested a review.

¹ See Antidumping or Countervailing Duty Order, Finding, or Suspended Investigation; Opportunity to Request Administrative Review, 83 FR 4639 (February 1, 2018).

² See Petitioner's request for administrative review, “Certain Frozen Warmwater Shrimp from the People's Republic of China: Request for Antidumping Duty Administrative Review,” dated February 22, 2018 (Petitioner's Review Request).

³ See Domestic Processors' request for administrative review, “Certain Frozen Warmwater Shrimp from the People's Republic of China: Request for Antidumping Duty Administrative Review,” dated February 27, 2018 (Domestic Processors' Review Request).

⁴ See Initiation of Antidumping and Countervailing Duty Administrative Reviews, 83 FR 16298 (April 16, 2018) (Initiation Notice).

⁵ See Petitioner's withdrawal of administrative review request, “Certain Frozen Warmwater Shrimp from the People's Republic of China: Domestic Producers' Withdrawal of Review Requests,” dated June 4, 2018.

⁶ See Domestic Processors' partial withdrawal of administrative review request, “Administrative Review of the Antidumping Duty Order Covering Frozen Warmwater Shrimp from the People's Republic of China (POR 13: 02/01/17-01/31/18): American Shrimp Processors Association's Partial Withdrawal of Review Request—Fuqing Dongwei Aquatic Products Ind.,” dated June 5, 2018.

⁷ See Domestic Processors' withdrawal of administrative review request, “Administrative Review of the Antidumping Duty Order Covering Frozen Warmwater Shrimp from the People's Republic of China (POR 13: 02/01/17-01/31/18): American Shrimp Processors Association's Withdrawal of Review Request in its Entirety,” dated June 18, 2018.

Rescission of Review

Pursuant to 19 CFR 351.213(d)(1), Commerce will rescind an administrative review, in whole or in part, if the party that requested the review withdraws its request within 90 days of the publication date of the notice of initiation of the requested review. The petitioner and Domestic Processors withdrew their requests for review within the 90-day deadline. Because Commerce received no other requests for review of the above-referenced companies, and no other requests were made for a review of the AD order on shrimp from China with respect to other companies, we are rescinding the administrative review covering the period February 1, 2017, through January 31, 2018, in full, in accordance with 19 CFR 351.213(d)(1).

Assessment

Commerce will instruct U.S. Customs and Border Protection (CBP) to assess antidumping duties on all appropriate entries of shrimp from China during the POR at rates equal to the cash deposit rate for estimated antidumping duties required at the time of entry, or withdrawal from warehouse, for consumption, in accordance with 19 CFR 351.212(c)(1)(i). Commerce intends to issue appropriate assessment instructions to CBP 15 days after publication of this notice in the Federal Register.

Notification to Importers

This notice serves as the only reminder to importers of their responsibility under 19 CFR 351.402(f)(2) to file a certificate regarding the reimbursement of antidumping duties prior to liquidation of the relevant entries during this review period. Failure to comply with this requirement could result in the presumption that reimbursement of antidumping duties occurred and the subsequent assessment of doubled antidumping duties.

Notification Regarding Administrative Protective Order

This notice also serves as the only reminder to parties subject to administrative protective orders (APO) of their responsibility concerning the disposition of proprietary information disclosed under APO in accordance with 19 CFR 351.305(a)(3), which continues to govern business proprietary information in this segment of the proceeding. Timely written notification of the return or destruction of APO materials or conversion to judicial protective order is hereby requested. Failure to comply with the regulations and the terms of an APO is a sanctionable violation.

This notice is issued and published in accordance with sections 751(a)(1) and 777(i)(1) of the Act and 19 CFR 351.213(d)(4).

Dated: June 29, 2018.
Scot Fullerton,
Director, Office VI, Antidumping and Countervailing Duty Operations.

[FR Doc. 2018-14611 Filed 7-6-18; 8:45 am]

BILLING CODE 3510-DS-P